DEPARTMENT OF HOMELAND SECURITY

Federal Emergency Management Agency

[Docket ID FEMA-2014-0002; Internal Agency Docket No. FEMA-B-1415]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before October 7, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1415, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

I. Watershed-Based Studies

Narragansett HUC8 Watershed
Community | Community map repository address
Maps Available for Inspection Online at: http//www.fema.gov/preliminaryfloodhazarddata
Bristol County, Massachusetts (All Jurisdictions)
City of Attleboro | City Hall, 77 Park Street, Attleboro, MA 02703.
City of Taunton | City Hall, 15 Summer Street, Taunton, MA 02780.
Town of Acushnet | Town Hall, 122 Main Street, Acushnet, MA 02743.
Town of Berkley | Town Hall, One North Main Street, Berkley, MA 02779.
Town of Dighton | Town Hall, 979 Somerset Avenue, Dighton, MA 02715.
Town of Freetown | Town Hall, Three North Main Street, Assonet, MA 02702.
Town of Mansfield | Town Hall, Six Park Row, Mansfield, MA 02048.
Town of North Attleborough | Town Hall, 43 South Washington Street, North Attleborough, MA 02760.
Town of Norton | Town Hall, 70 East Main Street, Norton, MA 02766.
Town of Raynham | Town Hall, 558 South Main Street, Raynham, MA 02767.
Town of Seekonk | Town Hall, 100 Peck Street, Seekonk, MA 02771.
Norfolk County, Massachusetts (All Jurisdictions)
Town of Foxborough | Town Hall, 40 South Street, Foxborough, MA 02035.
Town of Plainville | Town Hall, 142 South Street, Plainville, MA 02762.
Plymouth County, Massachusetts (All Jurisdictions)
Town of Bridgewater | Memorial Building, 151 High Street, Bridgewater, MA 02324.
Town of East Bridgewater | Town Hall, 175 Central Street, East Bridgewater, MA 02333.
Town of Halifax | Town Hall, 499 Plymouth Street, Halifax, MA 02338.
Town of Lakeville | Town Hall, 346 Bedford Street, Lakeville, MA 02347.
Town of Middleborough | Town Hall Annex, 20 Centre Street, Middleborough, MA 02346.
Town of Rochester | Town Hall Annex, 37 Marion Way, Rochester, MA 02770.

II. Non-Watershed-Based Studies

Community | Community map repository address
Kosciusko County, Indiana, and Incorporated Areas
Maps Available for Inspection Online at: http://www.fema.gov/preliminaryfloodhazarddata
City of Warsaw | Warsaw Planning Department, 102 South Buffalo Street, Warsaw, IN 46580.
Town of Leesburg | Leesburg Town Hall, 100 East Van Buren Street, Leesburg, IN 46538.
Town of Mentone | Mentone Town Hall, 201 West Main Street, Mentone, IN 46539.
Town of Milford | Kosciusko County Courthouse, Kosciusko County Area Planning, 100 West Center Street, Warsaw, IN 46580.
Town of North Webster | Kosciusko County Courthouse, Kosciusko County Area Planning, 100 West Center Street, Warsaw, IN 46580.
Town of Syracuse | Kosciusko County Courthouse, Kosciusko County Area Planning, 100 West Center Street, Warsaw, IN 46580.
Town of Winona Lake | Winona Lake Town Hall, 1310 Park Avenue, Winona Lake, IN 46590.
Unincorporated Areas of Kosciusko County | Kosciusko County Courthouse, Kosciusko County Area Planning, 100 West Center Street, Warsaw, IN 46580.
Des Moines County, Iowa, and Incorporated Areas
Maps Available for Inspection Online at: http://www.fema.gov/preliminaryfloodhazarddata
City of Burlington | Development Department, 400 Washington Street, Burlington, IA 52601.
Unincorporated Areas of Des Moines County | Southeast Iowa Regional Planning Commission, 200 North Front Street, Suite 400, Burlington, IA 52601.
Louisa County, Iowa, and Incorporated Areas
Maps Available for Inspection Online at: http://www.fema.gov/preliminaryfloodhazarddata
City of Oakville | City Hall, 601 Second Street, Oakville, IA 52646.
Unincorporated Areas of Louisa County | County Courthouse, 117 South Main Street, Wapello, IA 52653.
Unincorporated Areas of Louisa County | County Courthouse, 117 South Main Street, Wapello, IA 52653.
Hancock County, Maine (All Jurisdictions)
Maps Available for Inspection Online at: http://www.fema.gov/preliminaryfloodhazarddata
Bald Island | Land Use Planning Commission, Maine Department of Agriculture, Conservation and Forestry, 18 Elkins Lane/Harlow Building, 4th Floor, State House Station 22, Augusta, ME 04333.
Bar Island | Land Use Planning Commission, Maine Department of Agriculture, Conservation and Forestry, 18 Elkins Lane/Harlow Building, 4th Floor, State House Station 22, Augusta, ME 04333.
Beach Island | Land Use Planning Commission, Maine Department of Agriculture, Conservation and Forestry, 18 Elkins Lane/Harlow Building, 4th Floor, State House Station 22, Augusta, ME 04333.
Bear Island | Land Use Planning Commission, Maine Department of Agriculture, Conservation and Forestry, 18 Elkins Lane/Harlow Building, 4th Floor, State House Station 22, Augusta, ME 04333.
Big Barred Island | Land Use Planning Commission, Maine Department of Agriculture, Conservation and Forestry, 18 Elkins Lane/Harlow Building, 4th Floor, State House Station 22, Augusta, ME 04333.
Birch Island | Land Use Planning Commission, Maine Department of Agriculture, Conservation and Forestry, 18 Elkins Lane/Harlow Building, 4th Floor, State House Station 22, Augusta, ME 04333.
Bradbury Island | Land Use Planning Commission, Maine Department of Agriculture, Conservation and Forestry, 18 Elkins Lane/Harlow Building, 4th Floor, State House Station 22, Augusta, ME 04333.
Butter Island | Land Use Planning Commission, Maine Department of Agriculture, Conservation and Forestry, 18 Elkins Lane/Harlow Building, 4th Floor, State House Station 22, Augusta, ME 04333.
Chain Links Islands—North | Land Use Planning Commission, Maine Department of Agriculture, Conservation and Forestry, 18 Elkins Lane/Harlow Building, 4th Floor, State House Station 22, Augusta, ME 04333.
Chain Links Islands—South | Land Use Planning Commission, Maine Department of Agriculture, Conservation and Forestry, 18 Elkins Lane/Harlow Building, 4th Floor, State House Station 22, Augusta, ME 04333.
Channel Rock Island | Land Use Planning Commission, Maine Department of Agriculture, Conservation and Forestry, 18 Elkins Lane/Harlow Building, 4th Floor, State House Station 22, Augusta, ME 04333.
City of Ellsworth | City Hall, One City Hall Plaza, Ellsworth, ME 04605.
Colt Head Island | Land Use Planning Commission, Maine Department of Agriculture, Conservation and Forestry, 18 Elkins Lane/Harlow Building, 4th Floor, State House Station 22, Augusta, ME 04333.
Compass Island | Land Use Planning Commission, Maine Department of Agriculture, Conservation and Forestry, 18 Elkins Lane/Harlow Building, 4th Floor, State House Station 22, Augusta, ME 04333.
Crow Island | Land Use Planning Commission, Maine Department of Agriculture, Conservation and Forestry, 18 Elkins Lane/Harlow Building, 4th Floor, State House Station 22, Augusta, ME 04333.
Eagle Island | Land Use Planning Commission, Maine Department of Agriculture, Conservation and Forestry, 18 Elkins Lane/Harlow Building, 4th Floor, State House Station 22, Augusta, ME 04333.
Eaton Island | Land Use Planning Commission, Maine Department of Agriculture, Conservation and Forestry, 18 Elkins Lane/Harlow Building, 4th Floor, State House Station 22, Augusta, ME 04333.
Fling Island | Land Use Planning Commission, Maine Department of Agriculture, Conservation and Forestry, 18 Elkins Lane/Harlow Building, 4th Floor, State House Station 22, Augusta, ME 04333.
Grass Ledge Island | Land Use Planning Commission, Maine Department of Agriculture, Conservation and Forestry, 18 Elkins Lane/Harlow Building, 4th Floor, State House Station 22, Augusta, ME 04333.
Great Spruce Head Island | Land Use Planning Commission, Maine Department of Agriculture, Conservation and Forestry, 18 Elkins Lane/Harlow Building, 4th Floor, State House Station 22, Augusta, ME 04333.
Hardhead Island | Land Use Planning Commission, Maine Department of Agriculture, Conservation and Forestry, 18 Elkins Lane/Harlow Building, 4th Floor, State House Station 22, Augusta, ME 04333.
Hog Island | Land Use Planning Commission, Maine Department of Agriculture, Conservation and Forestry, 18 Elkins Lane/Harlow Building, 4th Floor, State House Station 22, Augusta, ME 04333.
Horsehead Island | Land Use Planning Commission, Maine Department of Agriculture, Conservation and Forestry, 18 Elkins Lane/Harlow Building, 4th Floor, State House Station 22, Augusta, ME 04333.
Inner Porcupine Island | Land Use Planning Commission, Maine Department of Agriculture, Conservation and Forestry, 18 Elkins Lane/Harlow Building, 4th Floor, State House Station 22, Augusta, ME 04333.
Little Barred Island | Land Use Planning Commission, Maine Department of Agriculture, Conservation and Forestry, 18 Elkins Lane/Harlow Building, 4th Floor, State House Station 22, Augusta, ME 04333.
Little Marshall Island | Land Use Planning Commission, Maine Department of Agriculture, Conservation and Forestry, 18 Elkins Lane/Harlow Building, 4th Floor, State House Station 22, Augusta, ME 04333.
Little Spruce Head | Land Use Planning Commission, Maine Department of Agriculture, Conservation and Forestry, 18 Elkins Lane/Harlow Building, 4th Floor, State House Station 22, Augusta, ME 04333.
Marshall Island | Land Use Planning Commission, Maine Department of Agriculture, Conservation and Forestry, 18 Elkins Lane/Harlow Building, 4th Floor, State House Station 22, Augusta, ME 04333.
Outer Porcupine Island | Land Use Planning Commission, Maine Department of Agriculture, Conservation and Forestry, 18 Elkins Lane/Harlow Building, 4th Floor, State House Station 22, Augusta, ME 04333.
Peak Island | Land Use Planning Commission, Maine Department of Agriculture, Conservation and Forestry, 18 Elkins Lane/Harlow Building, 4th Floor, State House Station 22, Augusta, ME 04333.
Pickering Island | Land Use Planning Commission, Maine Department of Agriculture, Conservation and Forestry, 18 Elkins Lane/Harlow Building, 4th Floor, State House Station 22, Augusta, ME 04333.
Pond Island | Land Use Planning Commission, Maine Department of Agriculture, Conservation and Forestry, 18 Elkins Lane/Harlow Building, 4th Floor, State House Station 22, Augusta, ME 04333.
Pumpkin Island | Land Use Planning Commission, Maine Department of Agriculture, Conservation and Forestry, 18 Elkins Lane/Harlow Building, 4th Floor, State House Station 22, Augusta, ME 04333.
Resolution Island | Land Use Planning Commission, Maine Department of Agriculture, Conservation and Forestry, 18 Elkins Lane/Harlow Building, 4th Floor, State House Station 22, Augusta, ME 04333.
Scott Island | Land Use Planning Commission, Maine Department of Agriculture, Conservation and Forestry, 18 Elkins Lane/Harlow Building, 4th Floor, State House Station 22, Augusta, ME 04333.
Scrag Island | Land Use Planning Commission, Maine Department of Agriculture, Conservation and Forestry, 18 Elkins Lane/Harlow Building, 4th Floor, State House Station 22, Augusta, ME 04333.
Sheep Island | Land Use Planning Commission, Maine Department of Agriculture, Conservation and Forestry, 18 Elkins Lane/Harlow Building, 4th Floor, State House Station 22, Augusta, ME 04333.
Sloop Island | Land Use Planning Commission, Maine Department of Agriculture, Conservation and Forestry, 18 Elkins Lane/Harlow Building, 4th Floor, State House Station 22, Augusta, ME 04333.
Sloop Island Ledge | Land Use Planning Commission, Maine Department of Agriculture, Conservation and Forestry, 18 Elkins Lane/Harlow Building, 4th Floor, State House Station 22, Augusta, ME 04333.
Spectacle Island | Land Use Planning Commission, Maine Department of Agriculture, Conservation and Forestry, 18 Elkins Lane/Harlow Building, 4th Floor, State House Station 22, Augusta, ME 04333.
Sugarloaf | Land Use Planning Commission, Maine Department of Agriculture, Conservation and Forestry, 18 Elkins Lane/Harlow Building, 4th Floor, State House Station 22, Augusta, ME 04333.
Town of Amherst | Town Office, Route 9 Airline Road, Amherst, ME 04605.
Town of Bar Harbor | Town Hall, 93 Cottage Street, Bar Harbor, ME 04609.
Town of Blue Hill | Town Office, 18 Union Street, Blue Hill, ME 04614.
Town of Brooklin | Town Office, 23 Bay Road, Brooklin, ME 04616.
Town of Brooksville | Town Office, One Town House Road, Brooksville, ME 04617.
Town of Bucksport | Town Office, 50 Main Street, Bucksport, ME 04416.
Town of Castine | Emerson Hall, 67 Court Street, Castine, ME 04421.
Town of Cranberry Isles | Town Office, 59 Main Street at Islesford, Little Cranberry Island, Islesford, ME 04646.
Town of Dedham | Town Office, 2073 Main Road, Suite A, Dedham, ME 04429.
Town of Deer Isle | Town Office, 70 Church Street, Deer Isle, ME 04627.
Town of Eastbrook | Town Office, 959 Eastbrook Road, Eastbrook, ME 04634.
Town of Franklin | Town Office, 34 Main Street, Franklin, ME 04634.
Town of Frenchboro | Town Office, One Executive Drive, Frenchboro, ME 04635.
Town of Gouldsboro | Town Office, 59 Main Street, Prospect Harbor, ME 04669.
Town of Hancock | Town Office, 18 Point Road, Hancock, ME 04640.
Town of Lamoine | Town Office, 606 Douglas Highway, Lamoine, ME 04605.
Town of Mariaville | Town Office, 1686 Mariaville Road, Mariaville, ME 04605.
Town of Mount Desert | Town Office, 21 Sea Street, Northeast Harbor, ME 04662.
Town of Orland | Town Office, 25 School House Road, Orland, ME 04472.
Town of Otis | Town Office, 132 Otis Road, Otis, ME 04605.
Town of Penobscot | Town Office, One Southern Bay Road, Penobscot, ME 04476.
Town of Sedgwick | Town Office, 719 North Sedgwick Road, Sedgwick, ME 04676.
Town of Sorrento | Town Office, 79 Pomola Avenue, Sorrento, ME 04677.
Town of Southwest Harbor | Town Office, 26 Village Green Way, Southwest Harbor, ME 04679.
Town of Stonington | Town Office, 32 Main Street, Stonington, ME 04681.
Town of Sullivan | Town Office, 1888 US Highway 1, Sullivan, ME 04664.
Town of Surry | Town Office, 741 North Bend Road, Surry, ME 04684.
Town of Swans Island | Town Office, 125 Harbor Road, Swans Island, ME 04685.
Town of Tremont | Town Office, 20 Harbor Drive, Bass Harbor, ME 04653.
Town of Trenton | Town Office, 59 Oak Point Road, Trenton, ME 04605.
Town of Verona Island | Town Hall, 16 School Street, Bucksport, ME 04416.
Town of Waltham | Town Office, 1520 Waltham Road, Waltham, ME 04605.
Town of Winter Harbor | Town Office, 20 School Street, Winter Harbor, ME 04693.
Township of Fletcher's Landing | Land Use Planning Commission, Maine Department of Agriculture, Conservation and Forestry, 18 Elkins Lane/Harlow Building, 4th Floor, State House Station 22, Augusta, ME 04333.
Township of T07 Sd | Land Use Planning Commission, Maine Department of Agriculture, Conservation and Forestry, 18 Elkins Lane/Harlow Building, 4th Floor, State House Station 22, Augusta, ME 04333.
Two Bush Island | Land Use Planning Commission, Maine Department of Agriculture, Conservation and Forestry, 18 Elkins Lane/Harlow Building, 4th Floor, State House Station 22, Augusta, ME 04333.
Western Island | Land Use Planning Commission, Maine Department of Agriculture, Conservation and Forestry, 18 Elkins Lane/Harlow Building, 4th Floor, State House Station 22, Augusta, ME 04333.
Knox County, Maine (All Jurisdictions)
Maps Available for Inspection Online at: http://www.fema.gov/preliminaryfloodhazarddata
Andrews Island | Land Use Planning Commission, Maine Department of Agriculture, Conservation and Forestry, 18 Elkins Lane/Harlow Building, 4th Floor, State House Station 22, Augusta, ME 04333.
Bar Island | Land Use Planning Commission, Maine Department of Agriculture, Conservation and Forestry, 18 Elkins Lane/Harlow Building, 4th Floor, State House Station 22, Augusta, ME 04333.
Birch Island | Land Use Planning Commission, Maine Department of Agriculture, Conservation and Forestry, 18 Elkins Lane/Harlow Building, 4th Floor, State House Station 22, Augusta, ME 04333.
Brig Ledge | Land Use Planning Commission, Maine Department of Agriculture, Conservation and Forestry, 18 Elkins Lane/Harlow Building, 4th Floor, State House Station 22, Augusta, ME 04333.
Camp Cove Ledge | Land Use Planning Commission, Maine Department of Agriculture, Conservation and Forestry, 18 Elkins Lane/Harlow Building, 4th Floor, State House Station 22, Augusta, ME 04333.
Camp Island | Land Use Planning Commission, Maine Department of Agriculture, Conservation and Forestry, 18 Elkins Lane/Harlow Building, 4th Floor, State House Station 22, Augusta, ME 04333.
City of Rockland | City Hall, 270 Pleasant Street, Rockland, ME 04841.
Clam Ledges | Land Use Planning Commission, Maine Department of Agriculture, Conservation and Forestry, 18 Elkins Lane/Harlow Building, 4th Floor, State House Station 22, Augusta, ME 04333.
Crescent Island | Land Use Planning Commission, Maine Department of Agriculture, Conservation and Forestry, 18 Elkins Lane/Harlow Building, 4th Floor, State House Station 22, Augusta, ME 04333.
Crow Island | Land Use Planning Commission, Maine Department of Agriculture, Conservation and Forestry, 18 Elkins Lane/Harlow Building, 4th Floor, State House Station 22, Augusta, ME 04333.
Dix Island | Land Use Planning Commission, Maine Department of Agriculture, Conservation and Forestry, 18 Elkins Lane/Harlow Building, 4th Floor, State House Station 22, Augusta, ME 04333.
East Goose Rock | Land Use Planning Commission, Maine Department of Agriculture, Conservation and Forestry, 18 Elkins Lane/Harlow Building, 4th Floor, State House Station 22, Augusta, ME 04333.
Egg Rock | Land Use Planning Commission, Maine Department of Agriculture, Conservation and Forestry, 18 Elkins Lane/Harlow Building, 4th Floor, State House Station 22, Augusta, ME 04333.
Fisherman Island | Land Use Planning Commission, Maine Department of Agriculture, Conservation and Forestry, 18 Elkins Lane/Harlow Building, 4th Floor, State House Station 22, Augusta, ME 04333.
Flag Island | Land Use Planning Commission, Maine Department of Agriculture, Conservation and Forestry, 18 Elkins Lane/Harlow Building, 4th Floor, State House Station 22, Augusta, ME 04333.
Goose Island | Land Use Planning Commission, Maine Department of Agriculture, Conservation and Forestry, 18 Elkins Lane/Harlow Building, 4th Floor, State House Station 22, Augusta, ME 04333.
Gooseberry Knob | Land Use Planning Commission, Maine Department of Agriculture, Conservation and Forestry, 18 Elkins Lane/Harlow Building, 4th Floor, State House Station 22, Augusta, ME 04333.
Graffam Island | Land Use Planning Commission, Maine Department of Agriculture, Conservation and Forestry, 18 Elkins Lane/Harlow Building, 4th Floor, State House Station 22, Augusta, ME 04333.
Great Pond Island | Land Use Planning Commission, Maine Department of Agriculture, Conservation and Forestry, 18 Elkins Lane/Harlow Building, 4th Floor, State House Station 22, Augusta, ME 04333.
Green Ledge | Land Use Planning Commission, Maine Department of Agriculture, Conservation and Forestry, 18 Elkins Lane/Harlow Building, 4th Floor, State House Station 22, Augusta, ME 04333.
Herring Ledge | Land Use Planning Commission, Maine Department of Agriculture, Conservation and Forestry, 18 Elkins Lane/Harlow Building, 4th Floor, State House Station 22, Augusta, ME 04333.
Hewett Island | Land Use Planning Commission, Maine Department of Agriculture, Conservation and Forestry, 18 Elkins Lane/Harlow Building, 4th Floor, State House Station 22, Augusta, ME 04333.
High Island | Land Use Planning Commission, Maine Department of Agriculture, Conservation and Forestry, 18 Elkins Lane/Harlow Building, 4th Floor, State House Station 22, Augusta, ME 04333.
High Ledge | Land Use Planning Commission, Maine Department of Agriculture, Conservation and Forestry, 18 Elkins Lane/Harlow Building, 4th Floor, State House Station 22, Augusta, ME 04333.
Hog Island | Land Use Planning Commission, Maine Department of Agriculture, Conservation and Forestry, 18 Elkins Lane/Harlow Building, 4th Floor, State House Station 22, Augusta, ME 04333.
Large Green Island | Land Use Planning Commission, Maine Department of Agriculture, Conservation and Forestry, 18 Elkins Lane/Harlow Building, 4th Floor, State House Station 22, Augusta, ME 04333.
Lasell Island | Land Use Planning Commission, Maine Department of Agriculture, Conservation and Forestry, 18 Elkins Lane/Harlow Building, 4th Floor, State House Station 22, Augusta, ME 04333.
Little Green Island | Land Use Planning Commission, Maine Department of Agriculture, Conservation and Forestry, 18 Elkins Lane/Harlow Building, 4th Floor, State House Station 22, Augusta, ME 04333.
Little Hurricane Island | Land Use Planning Commission, Maine Department of Agriculture, Conservation and Forestry, 18 Elkins Lane/Harlow Building, 4th Floor, State House Station 22, Augusta, ME 04333.
Little Pond Island | Land Use Planning Commission, Maine Department of Agriculture, Conservation and Forestry, 18 Elkins Lane/Harlow Building, 4th Floor, State House Station 22, Augusta, ME 04333.
Little Two Bush Island | Land Use Planning Commission, Maine Department of Agriculture, Conservation and Forestry, 18 Elkins Lane/Harlow Building, 4th Floor, State House Station 22, Augusta, ME 04333.
Malcolm Ledge | Land Use Planning Commission, Maine Department of Agriculture, Conservation and Forestry, 18 Elkins Lane/Harlow Building, 4th Floor, State House Station 22, Augusta, ME 04333.
Marblehead Island | Land Use Planning Commission, Maine Department of Agriculture, Conservation and Forestry, 18 Elkins Lane/Harlow Building, 4th Floor, State House Station 22, Augusta, ME 04333.
Mark Island | Land Use Planning Commission, Maine Department of Agriculture, Conservation and Forestry, 18 Elkins Lane/Harlow Building, 4th Floor, State House Station 22, Augusta, ME 04333.
Matinicus Isle Plantation | Community Office, 17 South Road, Matinicus, ME 04853.
Metinic Green Island | Land Use Planning Commission, Maine Department of Agriculture, Conservation and Forestry, 18 Elkins Lane/Harlow Building, 4th Floor, State House Station 22, Augusta, ME 04333.
Metinic Island | Land Use Planning Commission, Maine Department of Agriculture, Conservation and Forestry, 18 Elkins Lane/Harlow Building, 4th Floor, State House Station 22, Augusta, ME 04333.
Mink Island | Land Use Planning Commission, Maine Department of Agriculture, Conservation and Forestry, 18 Elkins Lane/Harlow Building, 4th Floor, State House Station 22, Augusta, ME 04333.
Mouse Island | Land Use Planning Commission, Maine Department of Agriculture, Conservation and Forestry, 18 Elkins Lane/Harlow Building, 4th Floor, State House Station 22, Augusta, ME 04333.
Nettle Island | Land Use Planning Commission, Maine Department of Agriculture, Conservation and Forestry, 18 Elkins Lane/Harlow Building, 4th Floor, State House Station 22, Augusta, ME 04333.
Oak Island | Land Use Planning Commission, Maine Department of Agriculture, Conservation and Forestry, 18 Elkins Lane/Harlow Building, 4th Floor, State House Station 22, Augusta, ME 04333.
Otter Island | Land Use Planning Commission, Maine Department of Agriculture, Conservation and Forestry, 18 Elkins Lane/Harlow Building, 4th Floor, State House Station 22, Augusta, ME 04333.
Pleasant Island | Land Use Planning Commission, Maine Department of Agriculture, Conservation and Forestry, 18 Elkins Lane/Harlow Building, 4th Floor, State House Station 22, Augusta, ME 04333.
Pudding Island | Land Use Planning Commission, Maine Department of Agriculture, Conservation and Forestry, 18 Elkins Lane/Harlow Building, 4th Floor, State House Station 22, Augusta, ME 04333.
Ragged Island | Land Use Planning Commission, Maine Department of Agriculture, Conservation and Forestry, 18 Elkins Lane/Harlow Building, 4th Floor, State House Station 22, Augusta, ME 04333.
Robinson Rock | Land Use Planning Commission, Maine Department of Agriculture, Conservation and Forestry, 18 Elkins Lane/Harlow Building, 4th Floor, State House Station 22, Augusta, ME 04333.
Saddle Island | Land Use Planning Commission, Maine Department of Agriculture, Conservation and Forestry, 18 Elkins Lane/Harlow Building, 4th Floor, State House Station 22, Augusta, ME 04333.
Seal Island | Land Use Planning Commission, Maine Department of Agriculture, Conservation and Forestry, 18 Elkins Lane/Harlow Building, 4th Floor, State House Station 22, Augusta, ME 04333.
Shag Ledge | Land Use Planning Commission, Maine Department of Agriculture, Conservation and Forestry, 18 Elkins Lane/Harlow Building, 4th Floor, State House Station 22, Augusta, ME 04333.
Spectacle Island | Land Use Planning Commission, Maine Department of Agriculture, Conservation and Forestry, 18 Elkins Lane/Harlow Building, 4th Floor, State House Station 22, Augusta, ME 04333.
Tenpound Island | Land Use Planning Commission, Maine Department of Agriculture, Conservation and Forestry, 18 Elkins Lane/Harlow Building, 4th Floor, State House Station 22, Augusta, ME 04333.
The Nubble | Land Use Planning Commission, Maine Department of Agriculture, Conservation and Forestry, 18 Elkins Lane/Harlow Building, 4th Floor, State House Station 22, Augusta, ME 04333.
Town of Appleton | Town Office, 2915 Sennebec Road, Appleton, ME 04862.
Town of Camden | Town Office, 29 Elm Street, Camden, ME 04843.
Town of Cushing | Town Office, 39 Cross Road, Cushing, ME 04563.
Town of Friendship | Town Office, Six Harbor Road, Friendship, ME 04547.
Town of Hope | Town Office, 441 Camden Road, Hope, ME 04847.
Town of Isle au Haut | Town Office, One Main Street, Isle au Haut, ME 04645.
Town of North Haven | Town Office, 16 Town Office Square, North Haven, ME 04853.
Town of Owls Head | Town Office, 224 Ash Point Drive, Owls Head, ME 04854.
Town of Rockport | Town Office, 101 Main Street, Rockport, ME 04856.
Town of South Thomaston | Town Office, 125 Spruce Head Road, South Thomaston, ME 04858.
Town of St. George | Town Office, Three School Street, Tenants Harbor, ME 04860.
Town of Thomaston | Town Office, 170 Main Street, Thomaston, ME 04861.
Town of Union | Town Office, 567 Common Road, Union, ME 04862.
Town of Vinalhaven | Town Office, 19 Washington School Road, Vinalhaven, ME 04863.
Town of Warren | Town Office, 167 Western Road, Warren, ME 04864.
Town of Washington | Town Office, 40 Old Union Road, Washington, ME 04574.
Township of Criehaven | Land Use Planning Commission, Maine Department of Agriculture, Conservation and Forestry, 18 Elkins Lane/Harlow Building, 4th Floor, State House Station 22, Agusta, ME 04333.
Township of Muscle Ridge | Land Use Planning Commission, Maine Department of Agriculture, Conservation and Forestry, 18 Elkins Lane/Harlow Building, 4th Floor, State House Station 22, Augusta, ME 04333.
Two Bush Island | Land Use Planning Commission, Maine Department of Agriculture, Conservation and Forestry, 18 Elkins Lane/Harlow Building, 4th Floor, State House Station 22, Augusta, ME 04333.
Wheaton Island | Land Use Planning Commission, Maine Department of Agriculture, Conservation and Forestry, 18 Elkins Lane/Harlow Building, 4th Floor, State House Station 22, Augusta, ME 04333.
Wheeler Big Rock | Land Use Planning Commission, Maine Department of Agriculture, Conservation and Forestry, 18 Elkins Lane/Harlow Building, 4th Floor, State House Station 22, Augusta, ME 04333.
Wooden Ball Island | Land Use Planning Commission, Maine Department of Agriculture, Conservation and Forestry, 18 Elkins Lane/Harlow Building, 4th Floor, State House Station 22, Augusta, ME 04333.
Yellow Ledge | Land Use Planning Commission, Maine Department of Agriculture, Conservation and Forestry, 18 Elkins Lane/Harlow Building, 4th Floor, State House Station 22, Augusta, ME 04333.
Lincoln County, Maine (All Jurisdictions)
Maps Available for Inspection Online at: http://www.fema.gov/preliminaryfloodhazarddata
Bar Island | Land Use Planning Commission, Maine Department of Agriculture, Conservation and Forestry, 18 Elkins Lane/Harlow Building, 4th Floor, State House Station 22, Augusta, ME 04333.
Haddock Island | Land Use Planning Commission, Maine Department of Agriculture, Conservation and Forestry, 18 Elkins Lane/Harlow Building, 4th Floor, State House Station 22, Augusta, ME 04333.
Hungry Island | Land Use Planning Commission, Maine Department of Agriculture, Conservation and Forestry, 18 Elkins Lane/Harlow Building, 4th Floor, State House Station 22, Augusta, ME 04333.
Indian Island | Land Use Planning Commission, Maine Department of Agriculture, Conservation and Forestry, 18 Elkins Lane/Harlow Building, 4th Floor, State House Station 22, Augusta, ME 04333.
Jones Garden Island | Land Use Planning Commission, Maine Department of Agriculture, Conservation and Forestry, 18 Elkins Lane/Harlow Building, 4th Floor, State House Station 22, Augusta, ME 04333.
Killick Stone Island | Land Use Planning Commission, Maine Department of Agriculture, Conservation and Forestry, 18 Elkins Lane/Harlow Building, 4th Floor, State House Station 22, Augusta, ME 04333.
Louds Island | Land Use Planning Commission, Maine Department of Agriculture, Conservation and Forestry, 18 Elkins Lane/Harlow Building, 4th Floor, State House Station 22, Augusta, ME 04333.
Marsh Island | Land Use Planning Commission, Maine Department of Agriculture, Conservation and Forestry, 18 Elkins Lane/Harlow Building, 4th Floor, State House Station 22, Augusta, ME 04333.
Monhegan Plantation | Land Use Planning Commission, Maine Department of Agriculture, Conservation and Forestry, 18 Elkins Lane/Harlow Building, 4th Floor, State House Station 22, Augusta, ME 04333.
Polins Ledges Island | Land Use Planning Commission, Maine Department of Agriculture, Conservation and Forestry, 18 Elkins Lane/Harlow Building, 4th Floor, State House Station 22, Augusta, ME 04333.
Ross Island | Land Use Planning Commission, Maine Department of Agriculture, Conservation and Forestry, 18 Elkins Lane/Harlow Building, 4th Floor, State House Station 22, Augusta, ME 04333.
Thief Island | Land Use Planning Commission, Maine Department of Agriculture, Conservation and Forestry, 18 Elkins Lane/Harlow Building, 4th Floor, State House Station 22, Augusta, ME 04333.
Thrumcap Island | Land Use Planning Commission, Maine Department of Agriculture, Conservation and Forestry, 18 Elkins Lane/Harlow Building, 4th Floor, State House Station 22, Augusta, ME 04333.
Town of Alna | Town Hall, 1568 Alna Road, Alna, ME 04535.
Town of Boothbay | Town Hall, 1011 Wiscasset Road, Boothbay, ME 04537.
Town of Boothbay Harbor | Town Hall, 11 Howard Street, Boothbay Harbor, ME 04538.
Town of Bremen | Town Hall, 208 Waldoboro Road, Bremen, ME 04551.
Town of Bristol | Town Hall, 1268 Bristol Road, (State Route 130), Bristol, ME 04539.
Town of Damariscotta | Town Hall, 21 School Street, Damariscotta, ME 04543.
Town of Dresden | Town Hall, 534 Gardner Road, Dresden, ME 04342.
Town of Edgecomb | Town Hall, 16 Town Hall Road, Edgecomb, ME 04556.
Town of Jefferson | Town Hall, 58 Washington Road, Jefferson, ME 04348.
Town of Newcastle | Town Hall, Four Pump Street, Newcastle, ME 04553.
Town of Nobleboro | Town Hall, 192 US Highway 1, Nobleboro, ME 04555.
Town of Somerville | Town Hall, 665 Patricktown Road, Suite 1, Somerville, ME 04348.
Town of South Bristol | South Bristol Town Hall, 470 Clarks Cove Road, Walpole, ME 04573.
Town of Southport | Town Hall, 361 Hendricks Hill Road, Southport, ME 04576.
Town of Waldoboro | Town Hall, 1600 Atlantic Highway, Waldoboro, ME 04572.
Town of Westport Island | Town Hall, Six Fowles Point Road, Westport Island, ME 04578.
Town of Whitefield | Town Hall, 36 Town House Road, Whitefield, ME 04353.
Town of Wiscasset | Town Hall, 51 Bath Road, Wiscasset, ME 04578.
Township of Hibberts Gore | Land Use Planning Commission, Maine Department of Agriculture, Conservation and Forestry, 18 Elkins Lane/Harlow Building, 4th Floor, State House Station 22, Augusta, ME 04333.
Webber Dry Ledge Island | Land Use Planning Commission, Maine Department of Agriculture, Conservation and Forestry, 18 Elkins Lane/Harlow Building, 4th Floor, State House Station 22, Augusta, ME 04333.
Western Egg Rock Island | Land Use Planning Commission, Maine Department of Agriculture, Conservation and Forestry, 18 Elkins Lane/Harlow Building, 4th Floor, State House Station 22, Augusta, ME 04333.
Wreck Island | Land Use Planning Commission, Maine Department of Agriculture, Conservation and Forestry, 18 Elkins Lane/Harlow Building, 4th Floor, State House Station 22, Augusta, ME 04333.
Wreck Island Ledge | Land Use Planning Commission, Maine Department of Agriculture, Conservation and Forestry, 18 Elkins Lane/Harlow Building, 4th Floor, State House Station 22, Augusta, ME 04333.
Sagadahoc County, Maine (All Jurisdictions)
Maps Available for Inspection Online at: http://www.fema.gov/preliminaryfloodhazarddata
City of Bath | City Hall, 55 Front Street, Bath, ME 04530.
Town of Arrowsic | Town Hall, 340 Arrowsic Road, Arrowsic, ME 04530.
Town of Bowdoin | Town Hall, 23 Cornish Drive, Bowdoin, ME 04287.
Town of Bowdoinham | Town Hall, 13 School Street, Bowdoinham, ME 04008.
Town of Georgetown | Town Hall, 50 Bay Point Road, Georgetown, ME 04548.
Town of Phippsburg | Town Hall, 1042 Main Road, Phippsburg, ME 04562.
Town of Richmond | Town Hall, 26 Gardner Street, Richmond, ME 04357.
Town of Topsham | Town Hall, 100 Main Street, Topsham, ME 04086.
Town of West Bath | Town Hall, 219 Fosters Point Road, West Bath, ME 04530.
Town of Woolwich | Town Hall, 13 Nequasset Road, Woolwich, ME 04579.
Township of Perkins | Land Use Planning Commission, Maine Department of Agriculture, Conservation and Forestry, 18 Elkins Lane/Harlow Building, 4th Floor, State House Station 22, Augusta, ME 04333.
Waldo County, Maine (All Jurisdictions)
Maps Available for Inspection Online at: http://www.fema.gov/preliminaryfloodhazarddata
City of Belfast | City Hall, 131 Church Street, Belfast, ME 04915.
Lime Island | Land Use Planning Commission, Maine Department of Agriculture, Conservation and Forestry, 18 Elkins Lane/Harlow Building, 4th Floor, State House Station 22, Augusta, ME 04333.
Little Bermuda Island | Land Use Planning Commission, Maine Department of Agriculture, Conservation and Forestry, 18 Elkins Lane/Harlow Building, 4th Floor, State House Station 22, Augusta, ME 04333.
Town of Belmont | Town Office, 613 Back Belmont Road, Belmont, ME 04952.
Town of Brooks | Town Hall, 15 Purple Heart Highway, Brooks, ME 04921.
Town of Burnham | Town Office, 247 South Horseback Road, Burnham, ME 04922.
Town of Frankfort | Town Office, 48A Main Road South, Frankfort, ME 04438.
Town of Freedom | Town Hall, 71 Pleasant Street, Freedom, ME 04941.
Town of Islesboro | Town Office, 150 Main Road, Islesboro, ME 04848.
Town of Knox | Town Office, 10 Abbott Road, Knox, ME 04986.
Town of Liberty | Town Hall, Seven Water Street, Liberty, ME 04949.
Town of Lincolnville | Town Office, 493 Hope Road, Lincolnville, ME 04849.
Town of Monroe | Town Hall, Eight Swan Lake Avenue, Monroe, ME 04951.
Town of Montville | Town Hall, 414 Center Road, Montville, ME 04941.
Town of Morrill | Town Hall, 44 Weymouth Road, Morrill, ME 04952.
Town of Northport | Town Office, 16 Beech Hill Road, Northport, ME 04849.
Town of Palermo | Town Hall, 45 North Palermo Road, Palermo, ME 04354.
Town of Prospect | Town Office, 958 Bangor Road, Prospect, ME 04981.
Town of Searsmont | Town Office, 37 Main Street South, Searsmont, ME 04973.
Town of Searsport | Town Office, One Union Street, Searsport, ME 04974.
Town of Stockton Springs | Town Office, 217 Main Street, Stockton Springs, ME 04981.
Town of Swanville | Town Hall, Six Townhouse Road, Swanville, ME 04915.
Town of Thorndike | Town Hall, 125 Mount View Road, Thorndike, ME 04986.
Town of Troy | Town Office, 129 Rogers Road, Troy, ME 04987.
Town of Unity | Town Office, 84 School Street, Unity, ME 04988.
Town of Waldo | Town Office, 629 Waldo Station Road, Waldo, ME 04915.
Town of Winterport | Town Office, 20 School Street, Winterport, ME 04496.
Knox County, Nebraska, and Incorporated Areas
Maps Available for Inspection Online at: http://www.fema.gov/preliminaryfloodhazarddata
City of Bloomfield | City Hall, 101 South Broadway, Bloomfield, NE 68718.
City of Crofton | City Hall, 1210 West 2nd Street, Crofton, NE 68730.
Unincorporated Areas of Knox County | Knox County Courthouse, 206 Main Street, Center, NE 68724.
Rockingham County, New Hampshire (All Jurisdictions)
Maps Available for Inspection Online at: http://www.fema.gov/preliminaryfloodhazarddata
City of Portsmouth | City Hall, One Junkins Avenue, Portsmouth, NH 03801.
Town of Exeter | Town Office, 10 Front Street, Exeter, NH 03833.
Town of Greenland | Town Office, 575 Portsmouth Avenue, Greenland, NH 03840.
Town of Hampton | Town Office, 100 Winnacunnet Road, Hampton, NH 03842.
Town of Hampton Falls | Town Hall, One Drinkwater Road, Hampton Falls, NH 03844.
Town of New Castle | Town Office, 49 Main Street, New Castle, NH 03854.
Town of Newfields | Town Hall, 65 Main Street, Newfields, NH 03856.
Town of Newington | Town Office, 205 Nimble Hill Road, Newington, NH 03801.
Town of Newmarket | Town Hall, 186 Main Street, Newmarket, NH 03857.
Town of North Hampton | Town Office, 233 Atlantic Avenue, North Hampton, NH 03862.
Town of Rye | Town Office, 10 Central Road, Rye, NH 03870.
Town of Seabrook | Town Office, 99 Lafayette Road, Seabrook, NH 03874.
Town of Stratham | Town Office, 10 Bunker Hill Avenue, Stratham, NH 03885.
Strafford County, New Hampshire (All Jurisdictions)
Maps Available for Inspection Online at: http://www.fema.gov/preliminaryfloodhazarddata
City of Dover | City Office, 288 Central Avenue, Dover, NH 03820.
Town of Durham | Town Office, 15 Newmarket Road, Durham, NH 03824.
Town of Madbury | Town Hall, 13 Town Hall Road, Madbury, NH 03823.
Town of Rollinsford | Town Office, 667 Main Street, Rollinsford, NH 03869.
Grays Harbor County, Washington, and Incorporated Areas
Maps Available for Inspection Online at: http://www.fema.gov/preliminaryfloodhazarddata
City of Aberdeen | City Hall, 200 East Market Street, Aberdeen, WA 98520.
City of Cosmopolis | City Hall, 1300 First Street, Cosmopolis, WA 98537.
City of Hoquiam | City Hall, 609 8th Street, Hoquiam, WA 98550.
City of Ocean Shores | City Hall, 585 Point Brown Avenue, Northwest, Ocean Shores, WA 98569.
City of Westport | City Hall, 604 North Montesano Street, Westport, WA 98595.
Unincorporated Areas of Grays Harbor County | Grays Harbor Administration Building, 100 West Broadway, Suite 31, Montesano, WA 98563.
Yakima County, Washington, and Incorporated Areas
Maps Available for Inspection Online at: http://www.fema.gov/preliminaryfloodhazarddata
City of Union Gap | City Hall, 102 West Ahtanum Road, Union Gap, WA 98903.
City of Yakima | City Hall, 129 North 2nd Street, Yakima, WA 98901.
Confederated Tribes and Bands of the Yakama Nation | Yakama Nation Offices, 401 Fort Road, Toppenish, WA 98948.
Unincorporated Areas of Yakima County | Yakima County Public Services, 128 North 2nd Street, Yakima, WA 98901.
Rock County, Wisconsin, and Incorporated Areas
Maps Available for Inspection Online at: http://www.fema.gov/preliminaryfloodhazarddata
City of Beloit | City Hall, 100 State Street, Beloit, WI 53511.
Unincorporated Areas of Rock County | Rock County Courthouse, 51 South Main Street, Janesville, WI 53545.

(Catalog of Federal Domestic Assistance No. 97.022, “Flood Insurance.”)

Dated: June 26, 2014.
Roy E. Wright,
Deputy Associate Administrator for Mitigation, Department of Homeland Security, Federal Emergency Management Agency.

[FR Doc. 2014-16058 Filed 7-8-14; 8:45 am]

BILLING CODE 9110-12-P